DEPARTMENT OF HOMELAND SECURITY

Coast Guard

33 CFR Part 117

[Docket No. USCG-2015-0222]

Drawbridge Operation Regulations; Piscataqua River, Kittery, ME

AGENCY: Coast Guard, DHS.

ACTION: Notice of deviation from drawbridge regulation.

SUMMARY: The Coast Guard has issued a temporary deviation from the operating schedule that governs the Sara M. Long Bridge, mile 2.5, across the Piscataqua River between Portsmouth, New Hampshire and Kittery, Maine. This deviation is necessary to facilitate bridge construction. This deviation allows the secondary draw at the Sara M. Long Bridge to remain closed to marine traffic during construction.

DATES: This deviation is effective from May 15, 2015 through October 31, 2015.

ADDRESSES: The docket for this deviation, [USCG-2015-0222] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, contact Ms. Judy K. Leung-Yee, Project Officer, First Coast Guard District, telephone (212) 514-4330, judy.k.leung-yee@uscg.mil. If you have questions on viewing the docket, call Cheryl Collins, Program Manager, Docket Operations, telephone (202) 366-9826.

SUPPLEMENTARY INFORMATION: The Sara M. Long Bridge across the Piscataqua River, mile 2.5, between Portsmouth, New Hampshire and Kittery, Maine, has a vertical clearance in the closed position of 8 feet at mean high water and 18 feet at mean low water.

The secondary draw section will remain closed during construction. The existing bridge operating regulations are found at 33 CFR 117.531(c).

The waterway is transited by seasonal recreational vessels and commercial vessels of various sizes.

The bridge owner, Maine Department of Transportation, requested a temporary deviation from the normal operating schedule to facilitate bridge construction.

Under this temporary deviation the Sara M. Long Bridge secondary draw may remain in the closed position from May 15, 2015 through October 31, 2015.

There is an alternate route for vessel traffic under the main span of the Sara M. Long Bridge. Vessels are advised to remain clear of the secondary draw and related construction activities during this closure. The secondary draw may be opened in the event of an emergency.

The Coast Guard will inform the users of the waterways through our Local and Broadcast Notice to Mariners of the change in operating schedule for the bridges so that vessels can arrange their transits to minimize any impact caused by the temporary deviation.

In accordance with 33 CFR 117.35(e), the drawbridge must return to its regular operating schedule immediately at the end of the effective period of this temporary deviation. This deviation from the operating regulations is authorized under 33 CFR 117.35.

Dated: April 6, 2015.
C.J. Bisignano,
Supervisory Bridge Management Specialist, First Coast Guard District.

[FR Doc. 2015-08660 Filed 4-14-15; 8:45 am]

BILLING CODE 9110-04-P